DEPARTMENT OF HOMELAND SECURITY

U.S. Customs and Border Protection

Accreditation and Approval of Intertek USA, Inc. (Ferndale, WA) as a Commercial Gauger and Laboratory

AGENCY: U.S. Customs and Border Protection, Department of Homeland Security.

ACTION: Notice of accreditation and approval of Intertek USA, Inc. (Ferndale, WA) as a commercial gauger and laboratory.

SUMMARY: Notice is hereby given, pursuant to CBP regulations, that Intertek USA, Inc. (Ferndale, WA), has been approved to gauge petroleum and certain petroleum products and accredited to test petroleum and certain petroleum products for customs purposes for the next three years as of January 9, 2024.

DATES: Intertek USA, Inc. (Ferndale, WA) was approved and accredited as a commercial gauger and laboratory as of January 9, 2024. The next inspection date will be scheduled for January 2027.

FOR FURTHER INFORMATION CONTACT: Dr. Eugene Bondoc, Laboratories and Scientific Services, U.S. Customs and Border Protection, 1331 Pennsylvania Avenue NW, Suite 1501-A North, Washington, DC 20004, tel. 202-344-1060.

SUPPLEMENTARY INFORMATION: Notice is hereby given pursuant to 19 CFR 151.12 and 19 CFR 151.13, that Intertek USA, Inc., 5060 Pacific Coast Highway, Suite 121, Ferndale, WA 98248, has been approved to gauge petroleum and certain petroleum products and accredited to test petroleum and certain petroleum products for customs purposes, in accordance with the provisions of 19 CFR 151.12 and 19 CFR 151.13. Intertek USA, Inc. (Ferndale, WA) is approved for the following gauging procedures for petroleum and certain petroleum products from the American Petroleum Institute (API):

API chapters | Title
3 | Tank Gauging.
7 | Temperature Determination.
8 | Sampling.
11 | Physical Properties Data.
12 | Calculation of Petroleum Quantities.
17 | Marine Measurement.

Intertek USA, Inc. (Ferndale, WA) is accredited for the following laboratory analysis procedures and methods for petroleum and certain petroleum products set forth by the U.S. Customs and Border Protection Laboratory Methods (CBPL) and American Society for Testing and Materials (ASTM):

CBPL No. | ASTM | Title
27-03 | D4006 | Standard Test Method for Water in Crude Oil by Distillation.
27-05 | D4928 | Standard Test Method for Water in Crude Oils by Coulometric Karl Fischer Titration.
27-06 | D473 | Standard Test Method for Sediment in Crude Oils and Fuel Oils by the Extraction Method.
27-07 | D4807 | Standard Test Method for Sediment in Crude Oil by Membrane Filtration.
27-13 | D4294 | Standard Test Method for Sulfur in Petroleum and Petroleum Products by Energy-Dispersive X-ray Fluorescence Spectrometry.
27-46 | D5002 | Standard Test Method for Density, Relative Density, and API Gravity of Crude Oils by Digital Density Analyzer.
27-48 | D4052 | Standard Test Method for Density, Relative Density, and API Gravity of Liquids by Digital Density Meter.
27-54 | D1796 | Standard Test Method for Water and Sediment in Fuel Oils by the Centrifuge Method (Laboratory Procedure).
N/A | D4007 | Standard Test Method for Water and Sediment in Crude Oil by the Centrifuge Method (Laboratory Procedure).

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. https://www.cbp.gov/about/labs-scientific/commercial-gaugers-and-laboratories

Lina M. Acosta,
Acting Laboratory Director, Houston, Laboratories and Scientific Services.

[FR Doc. 2025-09910 Filed 5-30-25; 8:45 am]

BILLING CODE 9111-14-P